DEPARTMENT OF EDUCATION

Office of Elementary and Secondary Education—School Improvement Programs—Native Hawaiian Curriculum Development, Teacher Training and Recruitment Program

AGENCY: Department of Education.

ACTION: Notice of Proposed Priorities for Fiscal Year (FY) 2001.

SUMMARY: The Secretary proposes absolute priorities for the FY 2001 grant competition under the Native Hawaiian Curriculum Development, Teacher Training and Recruitment Program. After funding continuation awards, the Secretary would (a) set aside an estimated $500,000 of FY 2001 funds to award new grants to support activities in the area of Native Hawaiian language revitalization; and (b) use the remaining FY 2001 funds available under the program (approximately $900,000) to award new grants to support activities in one or more of the following areas: (1) Aquaculture, (2) prisoner education initiatives, (3) waste management, (4) computer literacy, (5) Big Island astronomy, and (6) indigenous health programs.

DATES: We must receive your comments on or before July 11, 2001.

ADDRESSES: Address all comments about the proposed priorities to Lynn Thomas, Office of Elementary and Secondary Education, U.S. Department of Education, 400 Maryland Avenue, SW, Room 3C124, Washington, DC 20202-6140, Telephone (202) 260-1541, FAX: (202) 260-5630. If you prefer to send your comments through the Internet, use the following address: Lynn.Thomas@ed.gov

FOR FURTHER INFORMATION CONTACT: Lynn Thomas, (202) 260-1541. If you use a telecommunications device for the deaf (TDD), you may call the Federal Information Relay Service (FIRS) at 1-800-877-8339.

Individuals with disabilities may obtain this document in an alternative format (e.g., Braille, large print, audiotape, or computer diskette) on request to the contact person listed in the preceding paragraph.

SUPPLEMENTARY INFORMATION:

Invitation To Comment

We invite you to submit comments and recommendations regarding these proposed priorities. To ensure your comments have maximum effect in developing the notice of final priorities, we urge you to identify clearly the specific proposed priority that each comment addresses.

During and after the comment period, you may inspect all public comments about these proposed priorities in Room 3C124, 400 Maryland Avenue, SW., Washington, DC, between the hours of 8:30 a.m. and 4 p.m., Eastern time, Monday through Friday of each week except Federal holidays.

Assistance to Individuals With Disabilities in Reviewing the Rulemaking Record

On request, the Department supplies an appropriate aid, such as a reader or print magnifier, to an individual with a disability that needs assistance to review the comments. If you want to schedule an appointment for this type of aid, you may call (202) 205-8113 or (202) 260-9895. If you use a TDD, you may call the Federal Information Relay Service (FIRS) at 1-800-877-8339.

General

There is available for distribution under the Native Hawaiian Curriculum Development, Teacher Training and Recruitment Program (20 U.S.C. 7909) approximately $6.5 million of FY 2001 funds. Of this amount, the Secretary plans to use approximately $5.1 million to award continuation grants to successful applicants in prior year competitions and approximately $500,000 for new awards for grants to support activities in the area of Native Hawaiian language revitalization. The Secretary would use approximately $900,000 to support new curriculum development and teacher training projects in one or more of the following areas: (1) Aquaculture, (2) prisoner education initiatives, (3) waste management, (4) computer literacy, (5) Big Island astronomy, and (6) indigenous health programs.

Congress has urged the Secretary to support activities in these areas. Therefore, the Secretary is proposing absolute funding priorities and intends to use available FY 2001 funds under the program for new awards to support projects in these areas.

The Secretary will announce final priorities for these competitions in a future notice of the Federal Register. The final priorities will be determined by responses to this notice, available funds, and other considerations of the Department. Funding of a particular project depends on the final priority, the availability of funds, and the quality of the applications received. The publication of these proposed priorities does not preclude the Secretary from proposing additional priorities, nor does it limit the Secretary to funding only these priorities, subject to meeting applicable rulemaking requirements.

Note: This notice does not solicit applications. A notice inviting applications under the competitions will be published in the Federal Register concurrent with or following the notice of final priorities.

Absolute Priorities

Under 34 CFR 75.105(c)(3) and the Native Hawaiian Education Act, the Secretary proposes to give an absolute preference to applications that meet either of the following priorities, and to fund under this competition only those applications that meet either of the following absolute priorities:

Absolute priority 1: Applications that focus entirely on activities in one or more of the following areas:

(1) Acquaculture—to support programs that concentrate on acquaculture, the science of the cultivation of marine life. A comprehensive acquaculture program will assist Native Hawaiian students in reaching challenging standards in science and mathematics in an intellectually stimulating environment and give them a greater understanding and appreciation of their Native Hawaiian culture.

(2) Prisoner education initiatives—to support programs that target juvenile offenders or youth at risk of becoming juvenile offenders and that involve comprehensive and culturally sensitive strategies for reaching the target population through family counseling, basic education/jobs skills training, and the involvement of community elders as mentors;

(3) Waste management innovation—to study and document traditional Hawaiian practices of sustainable waste management and to prepare teaching materials for educational purposes and for demonstration of the use of Native Hawaiian plants and animals for waste treatment and environmental remediation;

(4) Computer literacy—to support curriculum development, teacher training and model programs designed to increase computer literacy and access for Native Hawaiian elementary and secondary school students;

(5) Big Island astronomy—to support the development of educational programs in Big Island astronomy for Native Hawaiian elementary and secondary school students to assist them in reaching challenging science and mathematics standards and to encourage them to enter the field of astronomy; and

(6) Indigenous health programs—to support curriculum development, teacher training, and instruction activities that will foster a better understanding and knowledge of Native Hawaiian traditional medicine, particularly among Native Hawaiian elementary and secondary students.

Absolute Priority 2: Applications that focus entirely on Native Hawaiian language revitalization activities, including K-12 language immersion programs, preservice and inservice teacher training programs, and programs designed to increase the number of Native Hawaiian teachers.

Program Authority: Section 9209 of the Elementary and Secondary Education Act of 1965, as amended (20 U.S.C. 7909).

Electronic Access to This Document

You may review this document, as well as all other Department of Education documents published in the Federal Register, in text or Adobe Portable Document Format (PDF) on the Internet at the following site: www.ed.gov/legislation/FedRegister.

To use PDF you must have Adobe Acrobat Reader which is available free at this site. If you have questions about using PDF, call the U.S. Government Printing Office (GPO); toll free, at 1-888-293-6498; or in the Washington, DC area at (202) 512-1530.

Note: The official version of this document is the document published in the Federal Register. Free Internet access to the official edition of the Federal Register and the Code of Federal Domestic Regulations is available on GPO Access at: http://www.access.gpo.gov/nara/index.html

Dated: June 5, 2001.
Thomas M. Corwin,
Acting Deputy Assistant Secretary for Elementary and Secondary Education.

[FR Doc. 01-14767 Filed 6-8-01; 8:45 am]

BILLING CODE 4000-01-M